DEPARTMENT OF ENERGY

Environmental Management Site-Specific Advisory Board, Hanford

AGENCY: Department of Energy.

ACTION: Notice of open meeting.

SUMMARY: This notice announces a meeting of the Environmental Management Site-Specific Advisory Board (EMSSAB), Hanford. The Federal Advisory Committee Act (Pub. L. 92-463, 86 Stat. 770) requires that public notice of this meeting be announced in the Federal Register.

DATES: Thursday, June 16, 2005, 9 a.m.-5 p.m., Friday, June 17, 2005, 8:30 a.m.-4 p.m.

ADDRESSES: Red Lion Hanford House, 825 Jadwin Avenue, Richland, WA.

Phone Number: (509) 946-7611.

Fax Number: (509) 943-8564.

FOR FURTHER INFORMATION CONTACT: Yvonne Sherman, Public Involvement Program Manager, Department of Energy Richland Operations Office, 825 Jadwin, MSIN A7-75, Richland, WA 99352; phone: (509) 376-6216; Fax: (509) 376-1563.

SUPPLEMENTARY INFORMATION: Purpose of the Board: The purpose of the Board is to make recommendations to DOE in the areas of environmental restoration, waste management, and related activities.

Tentative Agenda:

• Estimated Completion for the Waste Treatment and Immobilization Plant.

• Burial Ground Cleanup.

• Advice from the River and Plateau Committee concerning U Area for Soil Site Cleanup.

• Hanford Advisory Board Leadership Retreat.

• Site-Specific Advisory Board Update.

• 300 Area End States Workshop.

• Advice from the River and Plateau Committee concerning Integrated Disposal Facility.

• Yucca Mountain Update.

• Contracting Structure and Frequency.

• Public Comment.

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments. This notice is being published less than 15 days before the date of meeting due to programmatic issues that had to be resolved.

Minutes: The minutes of this meeting will be available for public review and copying at the Department of Energy's Freedom of Information Public Reading Room, 1E-190, Forrestal Building, 1000 Independence Avenue, SW., Washington, DC 20585 between 9 a.m. and 4 p.m., Monday-Friday, except Federal holidays. Minutes will also be available by writing to Erik Olds, Department of Energy, Richland Operations Office, 825 Jadwin, MSIN A7-75, Richland, WA 99352, or by calling him at (509) 376-1563.

Issued at Washington, DC on May 31, 2005.
R. Samuel,
Deputy Advisory Committee Management Officer.

[FR Doc. 05-11073 Filed 6-2-05; 8:45 am]

BILLING CODE 6450-01-P